DEPARTMENT OF THE TREASURY

Submission for OMB Review; Comment Request

January 2, 2014.

The Department of the Treasury will submit the following information collection requests to the Office of Management and Budget (OMB) for review and clearance in accordance with the Paperwork Reduction Act of 1995, Public Law 104-13, on or after the date of publication of this notice.

DATES: Comments should be received on or before February 6, 2014 to be assured of consideration.

ADDRESSES: Send comments regarding the burden estimate, or any other aspect of the information collection, including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Internal Revenue Service (IRS)

OMB Number: 1545-0020.

Type of Review: Revision of a currently approved collection.

Title: United States Gift (and Generation-Skipping Transfer) Tax Return.

Form: 709.

Abstract: Form 709 is used by individuals to report transfers subject to the gift and generation-skipping transfer taxes and to compute these taxes. IRS uses the information to enforce these taxes and to compute the estate tax.

Affected Public: Individuals or Households.

Estimated Annual Burden Hours: 1,718,345.

OMB Number: 1545-0029.

Type of Review: Extension without change of a currently approved collection.

Title: Employer's Quarterly Federal Tax Return.

Form: 941, 941 (PR), 941-SS, 941-X, 941-X (PR), 941-V, 941-V (PR), and related schedules.

Abstract: Form 941 is used by employers to report payments made to employees subject to income and social security/Medicare taxes and the amounts of these taxes. Form 941-PR is used by employers in Puerto Rico to report social security and Medicare taxes only. Form 941-SS is used by employers in the U.S. possessions to report social security and Medicare taxes only. Schedule B is used by employers to record their employment tax liability.

Affected Public: Private Sector: Businesses or other for-profits.

Estimated Annual Burden Hours: 388,256,964.

OMB Number: 1545-0121.

Type of Review: Extension without change of a currently approved collection.

Title: Foreign Tax Credit (Individual, Estate, or Trust).

Form: 1116.

Abstract: Form 1116 is used by individuals (including nonresident aliens) estates or trusts that paid foreign income taxes on U.S. taxable income to compute the foreign tax credit. This information is used by the IRS to verify the foreign tax credit.

Affected Public: Individuals or Households.

Estimated Annual Burden Hours: 25,066,693.

OMB Number: 1545-0199.

Type of Review: Revision of a currently approved collection.

Title: Application for Approval of Prototype Simplified Employee Pension (SEP) or Savings Incentive Match Plan for Employees of Small Employers (SIMPLE IRA Plan).

Form: 5306-A.

Abstract: This form is used by banks, credit unions, insurance companies, and trade or professional associations to apply for approval of a Simplified Employee Pension Plan or Savings Incentive Match Plan to be used by more than one employer. The data collected is used to determine if the prototype plan submitted is an approved plan.

Affected Public: Private Sector: Businesses or other for-profits.

Estimated Annual Burden Hours: 96,850.

OMB Number: 1545-0997.

Type of Review: Revision of a currently approved collection.

Title: Proceeds From Real Estate Transactions.

Form: 1099-S.

Abstract: Form 1099-S is used by the real estate reporting person to report proceeds from a real estate transaction to the IRS.

Affected Public: Private Sector: Businesses or other for-profits.

Estimated Annual Burden Hours: 360,276.

OMB Number: 1545-0923.

Type of Review: Revision of a currently approved collection.

Title: TD 8033 (TEMP) Tax Exempt Entity Leasing (REG-209274-85).

Abstract: These regulations provide guidance to persons executing lease agreements involving tax-exempt entities under section 168(h) of the Internal Revenue Code. The regulations are necessary to implement congressionally enacted legislation and elections for certain previously tax-exempt organizations and certain tax- exempt controlled entities.

Affected Public: Private Sector: Not-for-profit institutions.

Estimated Annual Burden Hours: 3,000.

OMB Number: 1545-2090.

Type of Review: Extension without change of a currently approved collection.

Title: REG-143797-06 (Final), Health Savings Plan Notice.

Abstract: The information is needed in cases where an employee establishes and HSA after the end of the calendar year but before the last day of February and will be used by employees for purposes of making up HSA contributions to those employees. The respondents are employees of employers who contribute to employees' HSAs.

Affected Public: Private Sector: Businesses or other for-profits; Non-for-profit institutions.

Estimated Annual Burden Hours: 1,250,000.

Dawn D. Wolfgang,
Treasury PRA Clearance Officer.

[FR Doc. 2014-00007 Filed 1-6-14; 8:45 am]

BILLING CODE 4830-01-P